DEPARTMENT OF TRANSPORTATION

Federal Aviation Administration

Notice of Submission Deadline for Schedule Information for Los Angeles International Airport for the Summer 2015 Scheduling Season

AGENCY: Department of Transportation, Federal Aviation Administration (FAA).

ACTION: Notice of submission deadline.

SUMMARY: Los Angeles World Airports (LAWA) has planned runway resurfacing and Runway Safety Area (RSA) construction at Los Angeles International Airport (LAX) beginning in March of 2015 until mid-2018. During this timeframe, a runway will be either shortened or closed, which could increase delays throughout much of the period of construction. In response to the varying capacity changes and forecasted scheduled demand over the duration of the project, the FAA announces the designation of LAX as a Level 2 airport under International Air Transport Association (IATA) Worldwide Slot Guidelines effective June 28, 2015. The focus hours are daily from 0600 through 2259 local time (1300—0559 UTC). The deadline for carriers to submit schedule information for the later part of the Summer 2015 scheduling season (June 28 through October 24, 2015) is March 20, 2015. The submission deadline for the Winter 2015 scheduling season will be May 21, 2015, which coincides with the IATA submission deadline. The FAA intends for the Level 2 designation to be temporary and does not anticipate this designation to extend beyond the completion date of construction.

DATES: Schedules must be submitted no later than March 20, 2015.

ADDRESSES: Schedules may be submitted by mail to the Slot Administration Office, AGC-200, Office of the Chief Counsel, 800 Independence Ave. SW., Washington, DC 20591; facsimile: 202-267-7277; or by email to: 7-AWA-slotadmin@faa.gov.

FOR FURTHER INFORMATION CONTACT: Susan Pfingstler, System Operations Services, Air Traffic Organization, Federal Aviation Administration, 600 Independence Avenue SW., Washington, DC 20591; telephone number: 202-267-6462; email: susan.pfingstler@faa.gov.

SUPPLEMENTARY INFORMATION: IATA guidelines state that a Level 2 airport is one where there is the potential for congestion during some periods of the day, week or season, which can be resolved by schedule adjustments mutually agreed between airlines and the facilitator. The FAA has determined that LAX should be designated as Level 2 based on projected capacity reductions and operational delays that are anticipated during the upcoming periods of runway construction. This construction is expected to occur in phases from March 2015 through mid-2018. LAWA plans runway closures or shortened runway lengths for resurfacing, construction of runway safety areas, and other airfield projects for all four runways. LAWA's current proposal indicates that only one runway would be closed or shortened at a time. LAWA projects that Runway 7R/25L will be closed for 33 days in March/April 2015. Runway 6L/24R would close from late June to October 2015. Runway 6R/24L would be shortened beginning December 2015 for ten months. Runway 7L/25R would be shortened for four months beginning October 2016 followed by a four month closure until spring 2017. Runway 7R/25L would close in January 2018 for five months. Specific projects and dates will be determined and announced by LAWA.

LAWA, the FAA, and stakeholders meet regularly to review construction plans, identify ways to improve airport and airspace efficiency, and mitigate construction impacts whenever possible. These and other collaborative efforts will continue to improve and manage operations as efficiently as possible; however, runway capacity and surface operations will be impacted during construction. The specific operational and delay impacts have not been definitively determined for each construction phase and will depend on the final project details, available runways, taxiways, and other operational factors. Surface operations will become more complex during construction and affect taxi times, terminal/gate area operations, and aircraft staging. FAA Design Group VI Aircraft operations present additional challenges. LAX currently has more scheduled Group VI Aircraft operations than any other U.S. airport with more operations planned in summer 2015. Operational restrictions for Group VI Aircraft include additional aircraft separation, runway selection, and taxi constraints.

The FAA recognizes that many summer schedules have been completed or are approaching the final planning stages. The initial schedules published for August 2015 are slightly above the August 2014 schedules. While some carriers have reduced operations compared to last summer, other carriers have increased flights. The FAA modeled delays for the March to early April closure of Runway 7R/25L and the late June to October closure of Runway 6L/24R. Modeling suggests moderate delays for the March/April closure and more extensive delays during the peak July and August months. These projections are based on published schedules and historic unscheduled traffic and projected capacity during the 2015 closures. Capacity rates are expected to be reduced by approximately 25%, decreasing hourly arrivals and departures from about 138 to 104 in visual meteorological conditions. The FAA is continuing to look at potential ways to increase runway throughput during construction and improve operations given the constraints. The FAA, LAWA, operators, and other affected parties expect to improve their operational planning for future construction phases based on the experiences during the March/April closure.

The FAA considered whether it would be optimal to begin the Level 2 review during the Winter 2015 scheduling season. Winter schedules are in earlier stages of development and present more opportunities for carriers to plan flights during less congested times. However, an earlier designation in summer rather than waiting until the next construction phase provides an opportunity for the FAA to facilitate modest positive schedule moves during peak demand season at LAX, discourage moves into peak periods that might increase congestion, and alert carriers thorough the IATA WSG process that there is a potential for congestion.

Schedule review under Level 2 alone will not resolve the congestion and delays resulting from demand that may exceed capacity. Rather, we expect that delays may be reduced as the FAA and carriers consider the potential impacts of new or retimed flights in peak periods. The success of Level 2 relies on voluntary cooperation by carriers to maintain a reasonable balance between capacity and demand. Carriers should recognize the operational constraints during construction and the potential for lengthy delays, carrier network impacts, flight cancellations, and consumer disruption if planned schedules significantly exceed capacity. The FAA does not expect to confirm, under the Level 2 process, new peak hour flights beyond those published as of the date of this notice.

Accordingly, effective June 28, 2015, the FAA designates LAX as a Level 2 airport daily between the hours of 0600 and 2259 local time (1300 and 0559 UTC) but carriers may submit schedule information for the full day, if preferred. Carriers should submit to the FAA schedule information for all planned operations no later than March 20, 2015. The FAA will reply to carrier schedule submissions within two weeks of the deadline. For future scheduling seasons, the FAA intends to follow the IATA WSG regular slot activity calendar. Runway capacity estimates for the Winter 2015 scheduling season are expected in the spring and will be reviewed during regular meetings with LAWA and stakeholders.

Carriers should submit schedule information in sufficient detail including, at a minimum, the carrier, flight number, scheduled time of arrival or departure, half-hour period, frequency, and effective dates. IATA standard schedule information format and data elements (Standard Schedules Information Manual, Chapter 6) may be submitted and would provide additional information that could be beneficial in assessing operational impacts.

LAX is designated by LAWA as Level 2 for flights at the Tom Bradley International Terminal (TBIT). This notice does not replace that process, which is done separately by LAWA based on terminal constraints. Schedule submissions and discussions with LAWA will continue in addition to FAA's review for runway impacts as described in this notice. Carriers operating at TBIT may copy both LAWA and the FAA on schedule messages.

Finally, the FAA expects that the Level 2 designation will allow all interested parties an opportunity to address any imbalance between demand and capacity, and work cooperatively to reduce delays. The FAA supports the Level 2 process as a preferred and viable alternative to full slot coordination under Level 3 or other administrative actions to address congestion during the runway and RSA construction. Since LAX does not have a history of significant delays and capacity is generally sufficient to meet demand, the FAA anticipates continuing its Level 2 designation only for the planned construction period that is expected to end in 2018. However, the FAA will review the Level 2 designation, at a minimum, in advance of each scheduling season and consider further action as may be necessary if operational data indicates that congestion cannot be mitigated effectively under the Level 2 designation.

Issued in Washington, DC, on March 3, 2015.
Daniel E. Smiley,
Acting Vice President, System Operations Services.

[FR Doc. 2015-05207 Filed 3-5-15; 8:45 am]

BILLING CODE 4910-13-P